FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—11/01/2004
20050086 | Warburg Pincus Private Equity VIII, L.P | Parthenon Investors II, L.P | Spheris Inc.
20050097 | FS Equity Partners V, L.P | Gregg Appliances Inc | Gregg Appliances Inc.
20050103 | Sumner M. Redstone | Raul Alarcon, Jr | Spanish Broadcasting System, Inc.
20050121 | Warburg Pincus Private Equity VIII, L.P | Spheris Holding III, Inc | Spheris Holding III, Inc.
TRANSACTIONS GRANTED EARLY TERMINATION—11/03/2004
20050090 | Takeda Pharmaceutical Company Limited | BioNumerik Pharmaceuticals, Inc | BioNumerik Pharmaceuticals, Inc.
TRANSACTIONS GRANTED EARLY TERMINATION—11/03/2004
20050050 | Henkel KGaA | The Clorox Company | Splitco
20050051 | Cooper Cameron Corporation | Precision Castparts | AOP Industries, Inc., CW Valves Services Co., Inc., PCC Flow Technologies LP, PCC Valves & Controls, Inc.
20050081 | William Sauder | Riverside Forest Products Limited | Riverside Forest Products Limited.
20050094 | Wellspring Capital Partners III, LLP | The Stanley Works | The Stanley Works.
20050102 | Computershare Limited | DST Systems, Inc | EquiServe, Inc.
20050108 | Computer Associates International, Inc | Netegrity, Inc | Netegrity, Inc.
20050117 | Estate of Ernest L. Samuel | Mr. Charles E. Pompea | Primac Corp., Primary Steel, Inc., Primtech LLC
TRANSACTIONS GRANTED EARLY TERMINATION—11/04/2004
20050020 | PacifiCare Health Systems, Inc | American Medical Security Group, Inc | American Medical Security Group, Inc.
20050039 | J. W. Childs Equity Partners, III, L.P | Vestar Capital Partners, III, L.P | Sheridan Holdings, Inc.
20050069 | AFFC Holdings, Inc | BP p.l.c | Amoco Fabrics and Fibers Company, BP Corporation North America Inc.
20050087 | ViroPharma Incorporated | Eli Lilly and Company | Eli Lilly and Company.
TRANSACTIONS GRANTED EARLY TERMINATION—11/05/2004
20050073 | Worley Group Limited | Parsons Employee Stock Ownership Plan | Parsons E&C Corporation
20050104 | Raul Alarcon, Jr | Sumner M. Redstone | Infinity Broadcasting Corporation of San Francisco
20050105 | CompuCredit Corporation | Dennis M. Mathisen | BANKFIRST.
20050114 | Atlantic Power Corporation | Teton Power Holdings, LLC | Onondaga Cogeneration Limited Partnership, Split Rock Holdings, LLC, Topsham Hydroelectric Generating Facility.
20050115 | Atlantic Power Corporation | ArcLight Energy Partners Fund II, L.P | Umatilla Power Funding, LLC
20050122 | Cypress Merchant Banking Partners II L.P | Stone Canyon Entertainment Corp | Stone Canyon Entertainment Corp.
20050129 | Ryerson Tull, Inc | Alcoa Inc | Integris Metals, Inc.
TRANSACTIONS GRANTED EARLY TERMINATION—11/08/2004
20050113 | Southern Wine & Spirits of America, Inc | David Taub | Darmart Enterprises, Inc., Gallo Wines Distributors, L.L.C. d/b/a, Premier Wines & Spirit, New York Depot Distributing Co., LLC.
20050125 | United Online, Inc | Classmates Online, Inc | Classmates Online, Inc.
20050126 | Warburg Pincus Private Equity VIII, L.P | Avicis, Inc | Avicis, Inc.
20050127 | World Directories S.a.r.l. (“WDS”) | VNU N.V | VNU World Directories Inc.
20050128 | Ryerson Tull, Inc | BHP Billiton Pic | Integris Metals, Inc.
20050130 | Rush Enterprises, Inc | Jesse and Milo Kirk | American Truck Source, Inc.
20050131 | J.P. Morgan Chase & Co | Michael Hirtenstein | WestCom Corporation
20050133 | Centene Corporation | Swope Community Enterprises | FirstGuard Health Plan, Inc., FirstGuard, Inc.
20050134 | Auto Sueco, Lda | Aktiebolaget Volvo | SABA Holding Company.
20050135 | CharterMac | Capri Realty Capital, LLC | Capri Capital Limited Partnership
20050138 | KeyCorp | American Express Company | American Express Business Finance Corporation
TRANSACTIONS GRANTED EARLY TERMINATION—11/09/2004
20050066 | Armor Holdings, Inc | The Specialty Group, Inc | The Specialty Group, Inc.
20050120 | Fuji Photo Film Co., Ltd | Arch Chemicals, Inc | Arch Chemical Specialties Products, Inc., Arch Electronic Chemicals, Inc., Arch Specialty Chemicals, Inc.

FOR FURTHER INFORMATION CONTACT: Sandra M. Peay, Contact Representative, or Renee Hallman, Case Management Assistant, Federal Trade Commission, Premerger Notification Office, Bureau of Competition, Room H-303, Washington, DC 20580, (202) 326-3100.

By direction of the Commission.
Donald S. Clark,
Secretary.

[FR Doc. 04-26938 Filed 12-7-04; 8:45 am]

BILLING CODE 6750-01-M